DEPARTMENT OF COMMERCE

National Oceanic and Atmospheric Administration

50 CFR Part 679

[Docket No. 121018563-3148-02]

RIN 0648-XC311

Fisheries of the Exclusive Economic Zone Off Alaska; Bering Sea and Aleutian Islands; 2013 and 2014 Harvest Specifications for Groundfish

Correction

In rule document 2013-04822, appearing on pages 13813-13834 in the issue of Friday, March 1, 2013, make the following correction:

On page 13822 in the heading of Table 9, the year “2013” is corrected read “2014”.

[FR Doc. C1-2013-04822 Filed 3-13-13; 8:45 am]

BILLING CODE 1505-01-D